DEPARTMENT OF ENERGY

Federal Energy Regulatory Commission

Combined Notice of Filings #2

Take notice that the Commission received the following electric corporate filings:

Docket Numbers: EC17-155-000.

Applicants: Bayshore Solar C, LLC.

Description: Application for Authorization Under Section 203 of the Federal Power Act, Request for Expedited Consideration and Confidential Treatment of Bayshore Solar C, LLC.

Filed Date: 8/8/17.

Accession Number: 20170808-5071.

Comments Due: 5 p.m. ET 8/29/17.

Take notice that the Commission received the following electric rate filings:

Docket Numbers: ER12-162-018; ER10-2611-020; ER11-2044-023; ER11-3876-022; ER13-1266-015; ER15-2211-012.

Applicants: Bishop Hill Energy II LLC, CalEnergy, LLC, Cordova Energy Company LLC, MidAmerican Energy Company, MidAmerican Energy Services, LLC, Saranac Power Partners, L.P.

Description: Notice of Non-Material Change in Status of Bishop Hill Energy II LLC, et al.

Filed Date: 8/8/17.

Accession Number: 20170808-5089.

Comments Due: 5 p.m. ET 8/29/17.

Docket Numbers: ER17-2260-000.

Applicants: Midcontinent Independent System Operator, Inc.

Description: § 205(d) Rate Filing: 2017-08-08_SA# 1927 IPL-ITCMW 3rd Revised LGIA (P001) to be effective 8/2/2017.

Filed Date: 8/8/17.

Accession Number: 20170808-5069.

Comments Due: 5 p.m. ET 8/29/17.

Docket Numbers: ER17-2261-000.

Applicants: Southern California Edison Company.

Description: § 205(d) Rate Filing: LGIA Antelope Expansion 2 LLC Antelope Solar 2 Project SA No. 195 TOT762 to be effective 8/9/2017.

Filed Date: 8/8/17.

Accession Number: 20170808-5084.

Comments Due: 5 p.m. ET 8/29/17.

Docket Numbers: ER17-2262-000.

Applicants: PJM Interconnection, L.L.C.

Description: Tariff Cancellation: Notice of Cancellation of Original Service Agreement No. 4097, Queue No. AA1-019 to be effective 9/25/2017.

Filed Date: 8/8/17.

Accession Number: 20170808-5108.

Comments Due: 5 p.m. ET 8/29/17.

Docket Numbers: ER17-2263-000.

Applicants: California Independent System Operator Corporation.

Description: Compliance filing: 2017-08-08 Petition for Tariff Waiver—Availability Assessment of Hours 2018 to be effective N/A.

Filed Date: 8/8/17.

Accession Number: 20170808-5142.

Comments Due: 5 p.m. ET 8/29/17.

Take notice that the Commission received the following qualifying facility filings:

Docket Numbers: QF17-1274-000.

Applicants: Shaw Industries Group, Inc.

Description: Form 556 of Shaw Industries Group, Inc.

Filed Date: 8/7/17.

Accession Number: 20170807-5122.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2017.
Nathaniel J. Davis, Sr.,
Deputy Secretary.

[FR Doc. 2017-17088 Filed 8-11-17; 8:45 am]

BILLING CODE 6717-01-P